DEPARTMENT OF ENERGY

Federal Energy Regulatory Commission

[Project No. 13468-000]

Champion Ridge Hydro, LLC; Notice of Preliminary Permit Application Accepted for Filing and Soliciting Comments, Motions To Intervene, and Competing Applications

September 8, 2009.

On May 20, 2009, Champion Ridge Hydro, LLC filed an application for a preliminary permit, pursuant to section 4(f) of the Federal Power Act, proposing to study the feasibility of the Champion Ridge Pumped Storage Hydroelectric Project, which would be located in Johnson County, Wyoming. The sole purpose of a preliminary permit, if issued, is to grant the permit holder priority to file a license application during the permit term. A preliminary permit does not authorize the permit holder to perform any land disturbing activities or otherwise enter upon lands or waters owned by others without the owners' express permission.

The proposed project would use groundwater and would consist of the following: (1) A new upper reservoir, with a surface area of 90 acres, and a storage capacity of 6,938 acre-feet at a normal maximum surface elevation of 7,400 feet above mean sea level (msl); (2) two new earth embankment dams, 210- and 20-foot-high, 4,234- and 690-foot-long, respectively; (3) a new lower reservoir, with a surface area of 180 acres, and storage capacity of 6,552 acre-feet at a normal maximum surface elevation of 6,000 feet msl; (4) a new 160-foot-high, 2,083-foot-long earth embankment dam; (5) a new 5,658-foot-long by 23-foot-diameter steel penstock connecting to; (6) a new powerhouse containing three generating units having a total installed capacity of 700 megawatts; (7) a new 230-kilovolt, 14.4-mile-long transmission line; and (8) appurtenant facilities. The proposed project would have an average annual generation of 2,026.795 gigawatt-hours.

Applicant Contact: Brent Smith, Symbiotics, LLC, P.O. Box 535, Rigby, ID 83442; phone: (208) 745-0835.

FERC Contact: Dianne Rodman, (202) 502-6077.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13468) in the docket number field to access the document. For assistance, contact FERC Online Support.

Kimberly D. Bose,
Secretary.

[FR Doc. E9-22093 Filed 9-14-09; 8:45 am]

BILLING CODE 6717-01-P